DEPARTMENT OF ENERGY

Federal Energy Regulatory Commission

[Docket Nos. RP02-74-000 and RP03-90-000]

Enbridge Pipelines (KPC); Notice of Motion To Terminate Proceedings

August 22, 2003.

Take notice that on July 16, 2003, pursuant to Rule 212 of the Commission's Rules of Practice and Procedure, 18 CFR 385.212, Enbridge Pipelines (KPC) and Kansas Gas Service, a division of ONEOK, Inc. (KGS) tendered for filing a request that the Commission terminate the above-referenced proceeding. In support of the motion, Enbridge KPC and KGS state the following.

Pending in these unconsolidated cases is a disputed issue concerning the level of refunds attributed to IT transportation revenues which Enbridge KPC is obligated to provide to KGS pursuant to Section 24.5 of the General Terms and Conditions of Enbridge KPC's tariff.

Enbridge KPC states that on May 1, 2003, Enbridge KPC and KGS, along with the Staff of the Kansas Corporation Commission (KCC), executed a settlement agreement which resolved all pending litigation between and among Enbridge KPC, KGS and the KCC, including the proceedings in Docket Nos. RP02-74-000 and RP03-90-000. The settlement agreement permits Enbridge KPC to retain the IT revenues at issue.

Enbridge KPC states that no other issues are presented in these cases and therefore no other customer or party will be affected by the termination of these dockets. In addition, Enbridge KPC and KGS are authorized to state that the KCC does not oppose this motion.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” (FERRIS) link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: September 8, 2003.

Magalie R. Salas,
Secretary.

[FR Doc. 03-22112 Filed 8-28-03; 8:45 am]

BILLING CODE 6717-01-P